NUCLEAR REGULATORY COMMISSION

Sunshine Notice

AGENCY: Nuclear Regulatory Commission.

Dates: Weeks of December 22, 29, 2003, January 5, 12, 19, 26, 2004.

Place: Commissioners' Conference Room, 11555 Rockville Pike, Rockville, Maryland.

Status: Public and closed.

Matters To Be Considered:

Week of December 22, 2003

There are no meetings scheduled for the Week of December 22, 2003.

Week of December 29, 2003—Tentative

There are no meetings scheduled for the Week of December 29, 2003.

Week of January 5, 2004—Tentative

There are no meetings scheduled for the Week of January 5, 2004.

Week of January 12, 2004—Tentative

Wednesday, January 14, 2004

9:30 a.m. Briefing on Status of Office of Chief Information Officer Programs, Performance, and Plans (Public Meeting) (Contact: Jacqueline Silber, 301-415-7330)

This meeting will be webcast live at the Web address http://www.nrc.gov.

Week of January 19, 2004—Tentative

Wednesday, January 21, 2004

1:30 p.m. Discussion of Security Issues (Closed—Ex. 1)

Week of January 26, 2004—Tentative

There are no meetings scheduled for the Week of January 26, 2004.

The schedule for Commission meetings is subject to change on short notice. To verify the status of meetings call (recording)—(301) 415-1292. Contact person for more information: Timothy J. Frye, (301) 415-1651.

Additional Information: By a vote of 3-0 on December 17, the Commission determined pursuant to U.S.C. 552b(e) and § 9.107(a) of the Commission's rules that “Affirmation of (1) SECY-03-0195 (Final Rule: 10 CFR Part 50, Financial Information Requirements for Applications to Renew of Extend the Term of an Operating License for a Power Reactor); and (2) SECY-03-0211 (Dominion Nuclear Connecticut, Inc., Millstone Nuclear Power Station, Unit 2)” be held on December 18, and on less than one week's notice to the public.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555, (301) 415-1969. In addition, distribution of this meeting notice over the Internet system is available. If you are interested in receiving this Commission meeting schedule electronically, please send an electronic message to dkw@nrc.gov.

Dated: December 18, 2003.
Timothy J. Frye,
Technical Coordinator, Office of the Secretary.

[FR Doc. 03-31669 Filed 12-19-03; 11:02 am]

BILLING CODE 7590-01-M